DEPARTMENT OF ENERGY

Federal Energy Regulatory Commission

Sunshine Act Meetings

The following notice of meeting is published pursuant to section 3(a) of the government in the Sunshine Act (Pub. L. 94-409), 5 U.S.C. 552b:

AGENCY HOLDING MEETING: Federal Energy Regulatory Commission.

TIME AND DATE: Feburary 16, 2023, 10:00 a.m.

PLACE: Room 2C, 888 First Street NE, Washington, DC 20426.

STATUS: Open to the public.

MATTERS TO BE CONSIDERED: Agenda. * NOTE—Items listed on the agenda may be deleted without further notice.

CONTACT PERSON FOR MORE INFORMATION: Kimberly D. Bose, Secretary, Telephone (202) 502-8400.

For a recorded message listing items stricken from or added to the meeting, call (202) 502-8627.

This is a list of matters to be considered by the Commission. It does not include a listing of all documents relevant to the items on the agenda. All public documents, however, may be viewed on line at the Commission's website at https://elibrary.ferc.gov/eLibrary/search using the eLibrary link.

1098th—Meeting
[Open Meeting; February 16, 2023; 10:00 a.m.]
Item No. | Docket No. | Company
ADMINISTRATIVE
A-1 | AD23-1-000 | Agency Administrative Matters.
A-2 | AD23-2-000 | Customer Matters, Reliability, Security and Market Operations.
ELECTRIC
E-1 | RD23-1-000 | North American Electric Relaibility Corporation.
E-2 | ER19-776-002, ER19-809-002 (consolidated) | Midcontinent Independent System Operator, Inc.
E-3 | ER22-495-002, ER22-495-003 | Midcontinent Independent System Operator, Inc.
E-4 | ER22-496-002 | Midcontinent Independent System Operator, Inc.
E-5 | ER20-1739-002, ER20-1739-003, ER20-1739-000 | American Transmission Systems, Incorporated, PJM Interconnection, L.L.C.
E-6 | ER20-1951-002, ER20-1951-003, ER20-1951-000 | Mid-Atlantic Interstate Transmission, LLC, PJM Interconnection, L.L.C.
E-7 | ER22-2371-001, ER22-2372-001 | Southwest Power Pool, Inc.
E-8 | ER23-737-000 | North Fork Solar Project, LLC.
E-9 | ER23-137-000 | ZEP Grand Prairie Wind, LLC.
E-10 | ER22-709-003 | Southwest Power Pool, Inc.
E-11 | ER22-2988-000 | DLS—Laskin Project Co, LLC.
| ER22-2990-000 | DLS—Sylvan Project Co, LLC.
| ER22-2991-000 | DLS—Jean Duluth Project Co, LLC.
E-12 | EC21-77-001 | FirstEnergy Corp.
E-13 | EL21-77-003 | Tenaska Clear Creek Wind, LLC v. Southwest Power Pool, Inc.
E-14 | EL21-56-001 | Louisiana Public Service Commission, Arkansas Public Service Commission, and Council of the City of New Orleans, Louisiana v. System Energy Resources, Inc., Entergy Services, LLC, Entergy Operations, Inc., and Entergy Corporation.
E-15 | EL22-42-000 | RENEW Northeast, Inc. and the American Clean Power Association v. ISO New England Inc.
E-16 | EL22-30-001 | Southwestern Public Service Company v. Southwest Power Pool, Inc.
E-17 | EL23-7-000 | Generate Capital, PBC.
HYDRO
H-1 | P-2816-050 | North Hartland, LLC.
H-2 | P-2354-152 | Georgia Power Company.
H-3 | P-2100-185 | California Department of Water Resources.
H-4 | P-2530-061 | Brookfield White Pine Hydro LLC.
CERTIFICATES
C-1 | CP22-141-000 | Great Basin Gas Transmission Company.
C-2 | OMITTED
C-3 | CP23-29-000 | Saguaro Connector Pipeline, L.L.C.
C-4 | CP22-227-000 | Columbia Gas Transmission, LLC.
C-5 | CP16-10-010, CP19-477-002, CP21-57-002 | Mountain Valley Pipeline, LLC.

A free webcast of this event is available through the Commission's website. Anyone with internet access who desires to view this event can do so by navigating to www.ferc.gov' s Calendar of Events and locating this event in the Calendar. The Federal Energy Regulatory Commission provides technical support for the free webcasts. Please call (202) 502-8680 or email customer@ferc.gov if you have any questions.

Immediately following the conclusion of the Commission Meeting, a press briefing will be held in the Commission Meeting Room. Members of the public may view this briefing in the designated overflow room. This statement is intended to notify the public that the press briefings that follow Commission meetings may now be viewed remotely at Commission headquarters but will not be telecast.

Issued: February 9, 2023.
Kimberly D. Bose,
Secretary.

[FR Doc. 2023-03461 Filed 2-14-23; 4:15 pm]

BILLING CODE 6717-01-P